COMMITTEE FOR PURCHASE FROM PEOPLE WHO ARE BLIND OR SEVERELY DISABLED

Procurement List; Proposed Addition and Deletions

ACTION: Proposed Addition to and Deletions from Procurement List.

SUMMARY: The Committee is proposing to add to the Procurement List a service to be furnished by nonprofit agencies employing persons who are blind or have other severe disabilities, and to delete a product and services previously furnished by such agencies.

Comments Must be Received on or Before: February 10, 2008.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Addition

If the Committee approves the proposed addition, the entities of the Federal Government identified in this notice for each service will be required to procure the service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agencies listed:

Service

Service Type/Location: Warehousing & Distribution of the IRS Incentive Awards for the BRAVO! Awards Program, Internal Revenue Service Business Operations Offices, 333 Market Street, San Francisco, CA.

NPA: Bobby Dodd Institute, Inc., Atlanta, GA.

Contracting Activity: Department of the Treasury, Internal Revenue Service, San Francisco, CA.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

Comments on this certification are invited. Commenters should identify the statement(s) underlying the certification on which they are providing additional information.

End of Certification

The following product and services are proposed for deletion from the Procurement List:

Product

Cover, Map

NSN: 8460-00-287-2137.

NSN: 8460-00-287-2140.

NPA: Goodwill Industries of the Valleys, Inc., Roanoke, VA.

Contracting Activity: Defense Supply Center Philadelphia, Philadelphia, PA.

Services

Service Type/Location: Janitorial/Custodial Federal Aviation Administration Facilities, Albany County Airport, Albany, NY.

NPA: Albany County Chapter, NYSARC, Inc., Albany, NY.

Contracting Activity: Federal Aviation Administration, John F. Kennedy International Airport, Jamaica, NY.

Service Type/Location: Janitorial/Mechanical Maintenance,

U.S. Federal Building, U.S. Post Office, 403 West Lewis Street, Pasco, WA.

NPA: Columbia Industries, Kennewick, WA.

Contracting Activity: General Services Administration, Public Buildings Service, Region 10.

Kimberly M. Zeich,
Director, Program Operations.

[FR Doc. E8-345 Filed 1-10-08; 8:45 am]

BILLING CODE 6353-01-P